Title 3—

The President

Proclamation 9954 of October 23, 2019

United Nations Day, 2019

By the President of the United States of America

A Proclamation

Seventy-four years ago, representatives of 50 countries gathered in San Francisco to establish a global organization dedicated to achieving peace and prosperity. Impelled by the unprecedented carnage of two world wars, these countries created the United Nations as a forum for peaceful conflict resolution and the promotion of shared beliefs, forever changing global diplomacy. On this day, we celebrate the achievements of the United Nations in promoting peace, delivering aid to those in need, and confronting international challenges, and we recommit to helping the organization reach its full potential.

Last month, at the 74th Session of the United Nations General Assembly, I laid out my vision for a future of which America can be proud. The United States has embarked on a program of national renewal—fueling economic growth through tax cuts and deregulation, fighting unfair trade, protecting individual freedoms, and standing up for sovereign borders. We call on other countries to pursue their own programs of national revitalization. The path to prosperity for each country begins at home—and when leaders of sovereign nations put the interests of their citizens first, our collective future will be brighter, our people will be happier, and our partnerships will be stronger. The United States prizes liberty, independence, and self-government above all, and the United Nations organization is stronger when leaders protect their own people, respect their neighbors, and honor the differences that make each country unique.

Among the member states of the United Nations, the United States is leading the way in addressing global problems. We have held to account the Iranian regime, which seeks destabilization through nuclear proliferation, promotes a global campaign of terror, and causes mass unrest throughout the Middle East region. In response to Iran's attack in September on oil facilities in Saudi Arabia, we imposed stringent sanctions on the regime's Central Bank and National Development Fund. We have also worked to address the ongoing calamity in Venezuela wrought by the illegitimate regime of Nicolas Maduro. We imposed sanctions that cut off the Maduro dictatorship's financial support, and we were the first country to recognize Juan Guaido as the legitimate, interim President of Venezuela. The United States will continue to work through the United Nations and with its member states to confront bad actors who seek to disrupt and destroy freedom, prosperity, and progress.

We must also recognize that, in order to reach its enormous potential, the United Nations must follow through on essential reforms. The financial burdens must be distributed more equitably and funds should be taken from failed programs and directed to those that work.

On this day, we also pause to acknowledge the sacrifices of all men and women who serve in United Nations missions around the world. They are far from home, and devote their time and energy to protecting the vulnerable and providing relief to areas ravaged by war, famine, and natural disasters. And we honor the memories of those who have lost their lives in the pursuit of world peace.

NOW, THEREFORE, I, DONALD J. TRUMP, President of the United States of America, by virtue of the authority vested in me by the Constitution and the laws of the United States, do hereby proclaim October 24, 2019, as United Nations Day. I urge the Governors of the 50 States, the Governor of the Commonwealth of Puerto Rico, and the officials of all other areas under the flag of the United States, to observe United Nations Day with appropriate ceremonies and activities.

IN WITNESS WHEREOF, I have hereunto set my hand this twenty-third day of October, in the year of our Lord two thousand nineteen, and of the Independence of the United States of America the two hundred and forty-fourth.

[FR Doc. 2019-23604

Filed 10-25-19; 8:45 am]

Billing code 3295-F0-P